DEPARTMENT OF THE INTERIOR

Office of the Secretary; Notice of Deadline for Submitting Completed Applications To Begin Participation in the Tribal Self-Governance Program in Fiscal Year 2002 or Calendar Year 2002

AGENCY: Office of Self-Governance, Interior.

ACTION: Notice of application deadline.

SUMMARY: In this notice, the Office of Self-Governance (OSG) establishes a March 1, 2001, deadline for tribes/consortia to submit completed applications to begin participation in the tribal self-governance program in fiscal year 2002 or calendar year 2002.

DATES: Completed application packages must be received by the Director, Office of Self-Governance by March 1, 2001.

ADDRESSES: Application packages for inclusion in the applicant pool should be sent to the Director, Office of Self-Governance, U.S. Department of the Interior, Mail Stop 2548, 1849 C Street, NW., Washington DC 20240.

FOR FURTHER INFORMATION CONTACT: Dr. Kenneth D. Reinfeld, U.S. Department of the Interior, Office of Self-Governance, 1849 C Street NW., Mail Stop 2548, Washington DC 20240; Telephone 202-208-5734.

SUPPLEMENTARY INFORMATION: Under the Tribal Self-Governance Act of 1994 (Public Law 103-413), as amended by the Fiscal Year 1997 Omnibus Appropriations Bill (Public Law 104-208), the Director, Office of Self-Governance may select up to 50 additional participating tribes/consortia per year for the tribal self-governance program, and negotiate and enter into an annual written funding agreement with each participating tribe. The Act mandates that the Secretary submit copies of the funding agreements at least 90 days before the proposed effective date to the appropriate committees of the Congress and to each tribe that is served by the Bureau of Indian Affairs (BIA) agency that is serving the tribe that is a party to the funding agreement. Initial negotiations with a tribe/consortium located in a BIA region and/or agency which has not previously been involved with self-governance negotiations, will take approximately two months from start to finish. Agreements for an October 1 to September 30 fiscal year need to be signed and submitted by July 1. Agreements for a January 1 to December 31 fiscal year need to be signed and submitted by October 1.

Background

On December 15, 2000, a final rule was published in the Federal Register implementing Tribal Self-Governance, as authorized by Title IV of the Indian Self-Determination and Education Assistance Act. This rule has been negotiated among representatives of Self-Governance and non-Self-Governance Tribes and the U.S. Department of the Interior. Selection of additional tribes for participation in tribal self-governance is governed by subparts 1000.10 to 1000.31.

Purpose of Notice

The final rule established at 25 CFR subparts 1000.10 to 1000.31 will be used to govern the application and selection process for tribes/consortia to begin their participation in the tribal self-governance program in fiscal year 2002 and calendar year 2002. Applicants should be guided by the requirements in these subparts in preparing their applications. Copies of these subparts may be obtained from the information contact person identified in this notice.

Tribes/consortia wishing to be considered for participation in the tribal self-governance program in fiscal year 2002 or calendar year 2002 must respond to this notice, except for those which are (1) currently involved with negotiations with the Department; (2) one of the 77 tribal entities with signed agreements; or (3) one of the tribal entities already included in the applicant pool as of the date of this notice.

Dated: December 22, 2000.
Kevin Gover,
Assistant Secretary—Indian Affairs.

[FR Doc. 01-396 Filed 1-18-01; 8:45 am]

BILLING CODE 4310-02-P